DEPARTMENT OF AGRICULTURE

Forest Service

Meeting of the Superior Resource Advisory Committee

AGENCY: Forest Service, USDA.

ACTION: Notice of meeting.

SUMMARY: The Superior Resource Advisory Committee will meet in Duluth, Minnesota. The committee is authorized under the Secure Rural Schools and Community Self-Determination Act (Pub. L. 112-141) (the Act) and operates in compliance with the Federal Advisory Committee Act. The purpose of the committee is to improve collaborative relationships and to provide advice and recommendations to the Forest Service concerning projects and funding consistent with the title 11 of the Act. The meeting is open to the public. The purpose of the meeting is to review, select, prioritize and recommend projects under title II of the Act.

DATES: The meeting will be held Friday, September 14, 2012, 9:30 a.m. central time.

ADDRESSES: The meeting will be held at the Jim Sanders Conference Room, First Floor, Superior National Forest Headquarters, 8901 Grand Ave Place, Duluth, MN 55808. For those unable to attend in person, one may attend by phone, 1-888-858-2144, passcode 4844512#

Written comments may be submitted as described under Supplementary Information. All comments, including names and addresses when provided, are placed in the record and are available for public inspection and copying. Comments will be available on-line through the link to the Superior RAC page in the Secure Rural Schools section of the Superior National Forest Web site, www.fs.usda.gov/superior.

FOR FURTHER INFORMATION CONTACT: Lisa Radosevich-Craig, RAC Coordinator, Superior National Forest, 218-626-4336 or to the attention of Lisa Radosevich-Craig at r9_superior_NF@fs.fed.us.

Individuals who use telecommunication devices for the deaf (TDD) may call the Federal Information Relay Service (FIRS) at 1-800-877-8339 between 8 a.m. and 8 p.m., Eastern Standard Time, Monday through Friday.

SUPPLEMENTARY INFORMATION: The following business will be conducted: A review, selection, prioritization and recommendation projects submitted by August 27, 2012, under Title II of the Secure Rural Schools Act. The agenda will be available on-line through the link to the Superior RAC page in the Secure Rural Schools section of the Superior National Forest web site at www.fs.usda.gov/superior. Anyone who would like to bring related matters to the attention of the committee may file written statements with the committee staff before or after the meeting. The agenda will include time for people to make oral statements of three minutes or less. Individuals wishing to make an oral statement should request in writing by September 7, 2012 to be scheduled on the agenda. Written comments and requests for time for oral comments must be sent to Lisa Radosevich-Craig, RAC Coordinator, Superior National Forest, 8901 Grand Ave Place, Duluth, MN 55808, or by email to Attention: Lisa Radosevich-Craig, r9_superior_NF@fs.fed.us insert email, or via facsimile to Lisa Radosevich-Craig 218-626-4398. A summary of the meeting will be posted at www.fs.usda.gov/superior within 21 days of the meeting.

Meeting Accommodations: If you are a person requiring reasonable accommodation, please make requests in advance for sign language interpreting, assistive listening devices or other reasonable accommodation for access to the facility or proceedings by contacting the person listed under FOR FURTHER INFORMATION CONTACT. All reasonable accommodation requests are managed on a case by case basis.

Dated: August 10, 2012.
Brenda Halter,
Forest Supervisor, Superior National Forest.

[FR Doc. 2012-20229 Filed 8-17-12; 8:45 am]

BILLING CODE 3410-11-M